DEPARTMENT OF THE TREASURY

Alcohol and Tobacco Tax and Trade Bureau

[Docket No. TTB-2016-0001]

Proposed Information Collections; Comment Request (No. 57)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before March 14, 2016.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 400, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Personnel Questionnaire—Alcohol and Tobacco Products.

OMB Number: 1513-0002.

TTB Form Number: F 5000.9.

Abstract: The information collected on TTB F 5000.9 enables TTB to determine whether or not an applicant for a Federal alcohol or tobacco permit, notice, or registration, or certain other personnel, such as officers or directors, of the business applied for, meet the minimum qualifications for that permit, notice, or registration. TTB F 5000.9 is required in certain circumstances in which the information is deemed necessary, and includes such information as the individual's residence, business background, financial sources for the business, and criminal record.

Current Actions: TTB is submitting this collection as a revision. TTB is revising TTB F 5000.9 to reduce to the amount of requested information, which will reduce the estimated per-respondent burden and total annual burden hours associated with this information collection.

Type of Review: Revision of a currently approved collection.

Affected Public: Individuals or households.

Estimated Number of Respondents: 5,000.

Estimated Total Annual Burden Hours: 6,250.

Title: Application to Establish and Operate Wine Premises, and Wine Bond.

OMB Number: 1513-0009.

TTB Form Numbers: F 5120.25 and F 5120.36.

Abstract: TTB uses the TTB F 5120.25, Application to Establish and Operate Wine Premises, to collect information used to determine the qualifications of an applicant applying to establish and operate a new wine premises. TTB F 5120.25 is also used by proprietors of established wine premises to report changes to required information such as location and ownership. TTB F 5120.36, Wine Bond, is used by new wine premises applicants or established proprietors and a surety company as a contract to ensure the payment of the Federal excise tax on wine.

Current Actions: TTB is submitting this collection as a revision. The two forms associated with this collection remain the same. However, TTB is decreasing the estimated number of respondents and the resulting total annual burden hours associated with this information collection due to a decrease in the number of new wine premises applicants.

Type of Review: Revision of a currently approved collection.

Affected Public: Businesses and other for-profits.

Estimated Number of Respondents: 2,500.

Estimated Total Annual Burden Hours: 2,500.

Title: Formula and/or Process for Article Made With Specially Denatured Spirits.

OMB Number: 1513-0011.

TTB Form Number: F 5150.19.

Abstract: TTB F 5150.19 is completed by persons who use specially denatured spirits in the manufacture of certain articles. TTB uses the information provided on the form to ensure that the manufacturing formulas and processes for an article conform to the requirements of 26 U.S.C. 5273 regarding the sale, use, and recovery of denatured distilled spirits.

Current Actions: TTB is submitting this collection as a revision. The form remain unchanged. However, TTB is decreasing the estimated number of respondents and the resulting total annual burden hours associated with this information collection due to a decrease in the number of specially denatured spirits users filing formulas on TTB F 5150.19.

Type of Review: Revision of a currently approved collection.

Affected Public: Businesses and other for-profits.

Estimated Number of Respondents: 1,132.

Estimated Total Annual Burden Hours: 1,019.

Title: User's Report on Denatured Spirits.

OMB Number: 1513-0012.

TTB Form Number: F 5150.18.

Abstract: The information collected on TTB F 5150.18 summarizes the activities of a permit holder regarding the use of denatured spirits. In order to protect the revenue and ensure that permit holders lawfully operate, TTB examines and verifies the information collected on this report to identify unusual activities, errors, and omissions regarding the use of denatured spirits.

Current Actions: TTB is submitting this collection as a revision. The form remains unchanged. However, TTB is decreasing the estimated number of respondents and the resulting total annual burden hours associated with this information collection due to a decrease in the number of permitted denatured spirits users.

Type of Review: Revision of a currently approved collection.

Affected Public: Businesses and other for-profits.

Estimated Number of Respondents: 3,577.

Estimated Total Annual Burden Hours: 1,073.

Title: Report—Proprietor of Export Warehouse.

OMB Number: 1513-0024.

TTB Form Number: F 5220.4.

Abstract: Using TTB F 5220.4, export warehouse proprietors account for receipt, storage, and disposition of processed tobacco and taxable tobacco products, cigarette papers, and cigarette tubes. TTB uses this information to protect the revenue by detecting and preventing diversion of products intended for export and to ensure compliance with Federal laws and regulations relating to the removal of tobacco products, cigarette papers, and cigarette tubes for export, which is tax-exempt.

Current Actions: TTB is submitting this collection as a revision. The form and the estimated number of respondents remains unchanged. However, TTB is decreasing the estimated total annual burden hours associated with this information collection due to a decrease in the Bureau's estimate of the time it takes a respondent to complete the form.

Type of Review: Revision of a currently approved collection.

Affected Public: Businesses or other for-profits.

Estimated Number of Respondents: 80.

Estimated Total Annual Burden Hours: 960.

Title: Certificate of Tax Determination—Wine.

OMB Number: 1513-0029.

TTB Form Number: F 5120.20.

Abstract: The information collected on TTB F 5120.20 supports an exporter's claim for drawback of the Federal excise tax on wine by requiring the exporter to certify that the tax has been paid or determined on a specified amount and type of wine that contains a specified amount of alcohol by volume.

Current Actions: We are submitting this information collection for extension purposes only. The information collection, estimated number of respondents, and estimated number of burden hours remain unchanged.

Type of Review: Extension of a currently approved collection.

Affected Public: Businesses or other for-profits.

Estimated Number of Respondents: 1,000.

Estimated Total Annual Burden Hours: 500.

Title: Application for Transfer of Spirits and/or Denatured Spirits in Bond.

OMB Number: 1513-0038.

TTB Form Number: F 5100.16.

Abstract: TTB F 5100.16 is completed by distilled spirits plant proprietors who wish to receive spirits in bond from other distilled spirits plants. The proprietor of the receiving distilled spirits plant becomes liable for the Federal excise tax on the spirits received in bond from another plant. In order to protect the revenue, TTB uses the information collected on this form to determine if the applicant has sufficient bond coverage for the additional tax liability assumed when spirits are transferred in bond.

Current Actions: We are submitting this information collection for extension purposes only. The information collection, estimated number of respondents, and estimated number of burden hours remain unchanged.

Type of Review: Extension of a currently approved collection.

Affected Public: Businesses or other for-profits.

Estimated Number of Respondents: 1,000.

Estimated Total Annual Burden Hours: 500.

Title: Distilled Spirits Plants Warehousing Records (TTB REC 5110/02), and Monthly Report of Storage Operations.

OMB Number: 1513-0039.

TTB Form Number: F 5110.11.

TTB Recordkeeping Requirement Number: REC 5110/02.

Abstract: The Internal Revenue Code at 26 U.S.C. 5005(c) provides that the proprietor of a distilled spirits plant is liable for the Federal excise taxes on all spirits stored on the plant's premises, and the records and reports required under this information collection are used by TTB to protect that revenue. TTB uses the collected information to account for a proprietor's tax liability, to verify the quantity and kind of distilled spirits and wine in storage, and to determine the adequacy of a proprietor's bond coverage. TTB also uses this information to monitor industry activities and compliance.

Current Actions: TTB is submitting this collection as a revision. The information collection remains unchanged. However, TTB is increasing the estimated number of respondents and the resulting total annual burden hours associated with this information collection due to an increase in the number of distilled spirits plants regulated by TTB.

Type of Review: Revision of a currently approved collection.

Affected Public: Businesses and other for-profits.

Estimated Number of Respondents: 2,198.

Estimated Total Annual Burden Hours: 52,752.

Title: Distilled Spirits Plants—Excise Taxes (TTB REC 5110/06).

OMB Number: 1513-0045.

TTB Recordkeeping Requirement Number: REC 5110/06.

Abstract: This collection of information is necessary to account for and verify taxable removals of distilled spirits. Under the TTB regulations, industry members must keep records of spirits removed and the applicable tax rates, and must keep records to account for and verify nontaxable removals. TTB uses the data collected to audit tax returns and payments, verify claims for refunds or remission of tax, and account for cover over of taxes to Puerto Rico and the U.S. Virgin Islands.

Current Actions: TTB is submitting this collection as a revision. The information collection remains unchanged. However, TTB is increasing the estimated number of respondents and the resulting total annual burden hours associated with this information collection due to an increase in the number of distilled spirits plants regulated by TTB.

Type of Review: Revision of a currently approved collection.

Affected Public: Businesses and other for-profits.

Estimated Number of Respondents: 2,198.

Estimated Total Annual Burden Hours: 57,148.

Title: Formula for Distilled Spirits under the Federal Alcohol Administration Act.

OMB Number: 1513-0046.

TTB Form Number: F 5110.38.

Abstract: TTB F 5110.38 is used to determine the classification of distilled spirits for labeling and is also used for consumer protection. The form collects information regarding the person filing the formula, the type of product to be made, and the formulation for the product, including ingredients used such as the flavoring and blending materials and coloring agents.

Current Actions: TTB is submitting this collection as a revision. TTB F 5110.38 remains unchanged. However, TTB is decreasing the estimated number of respondents and the resulting annual burden hours due to a decrease in the number of respondents using this form, which TTB is phasing out in favor of TTB F 5100.51, Formula and Process for Domestic and Imported Alcohol Beverages, approved under OMB control number 1513-0122.

Type of Review: Revision of a currently approved collection.

Affected Public: Businesses and other for-profits.

Estimated Number of Respondents: 100.

Estimated Total Annual Burden Hours: 2,000.

Title: Distilled Spirits Plant Denaturation Records (TTB REC 5110/04), and Monthly Report of Processing (Denaturing) Operations.

OMB Number: 1513-0049.

TTB Form Number: F 5110.43.

TTB Recordkeeping Requirement Number: REC 5110/04.

Abstract: The information collected is necessary to account for and to verify the denaturation of distilled spirits. A tax is imposed on distilled spirits other than those used for certain authorized nonbeverage purposes. Denatured spirits are normally not taxed and, as a result, a full accounting of those spirits is necessary to ensure that they have not been unlawfully diverted for beverage use. TTB uses the information collected under this information collection to protect the revenue.

Current Actions: TTB is submitting this collection as a revision. The form and recordkeeping requirement associated with this information collection remain unchanged. However, TTB is increasing the collection's estimated number of respondents and the resulting total annual burden hours due to an increase in the number of distilled spirits plants regulated by TTB that engage in denaturing operations.

Type of Review: Revision of a currently approved collection.

Affected Public: Businesses and other for-profits.

Estimated Number of Respondents: 365.

Estimated Total Annual Burden Hours: 4,380.

Title: Distilled Spirits Plants—Transaction and Supporting Records (TTB REC 5110/5).

OMB Number: 1513-0056.

TTB Recordkeeping Requirement Number: REC 5110/5.

Abstract: A tax is imposed on distilled spirits other than those used for certain authorized nonbeverage purposes. The Internal Revenue Code at 26 U.S.C. 5207 provides that the proprietor of a distilled spirits plant (DSP) must maintain records of production activities, storage activities, denaturing activities, and processing activities, and must render reports covering those activities. This collection of information are those transaction records which a DSP proprietor must maintain as source documents for each of the activities listed above. The information contained in these records are used by distilled spirits plant proprietors to account for spirits and by TTB to verify those accounts and consequent tax liabilities. These records also account for spirits eligible for credit or drawback of Federal excise tax.

Current Actions: TTB is submitting this collection as a revision. The recordkeeping requirement associated with this information collection remains unchanged. However, TTB is increasing the collection's estimated number of respondents and the resulting total annual burden hours due to an increase in the number of distilled spirits plants regulated by TTB.

Type of Review: Revision of a currently approved collection.

Affected Public: Businesses and other for-profits.

Estimated Number of Respondents: 2,198.

Estimated Total Annual Burden Hours: 47,916.

Title: Letterhead Applications and Notices Relating to Tax-Free Alcohol (TTB REC 5150/4).

OMB Number: 1513-0060.

TTB Recordkeeping Requirement Number: REC 5150/4.

Abstract: Tax-free alcohol is used for nonbeverage purposes in scientific research, for medicinal uses, and for other purposes by educational organizations, hospitals, clinics, laboratories, and similar institutions, and by State, local, and tribal governments. Use of tax-free alcohol is regulated to prevent illegal diversion to beverage use and for public safety. The applications, notices, and source records required by this information collection protect the revenue, help prevent and detect diversion, and ensure lawful use of tax-free alcohol.

Current Actions: TTB is submitting this information collection for extension purposes only. The information collection, estimated number of respondents, and estimated number of burden hours remain unchanged.

Type of Review: Extension of a currently approved collection.

Affected Public: Businesses or other for-profits; Not-for-profit institutions; State, Local, and Tribal Governments.

Estimated Number of Respondents: 3,333.

Estimated Total Annual Burden Hours: 1,667.

Title: Retail Liquor Dealers' Records of Receipts of Alcohol Beverages and Commercial Invoices (TTB REC 5170/3).

OMB Number: 1513-0066.

TTB Recordkeeping Requirement Number: REC 5170/3.

Abstract: The Internal Revenue Code at 26 U.S.C. 5122 requires retail liquor dealers to keep records of all alcohol beverages received and to keep records of the disposition of alcohol beverages as may be prescribed by regulation. The TTB regulations at 27 CFR 31.181 require retail dealers to keep receipt invoices (or a separate record book) of all alcohol beverages received and to keep records of any sales of alcohol beverages of over 20 wine gallons to the same person at the same time. Under 27 CFR 31.191, these records must be maintained for at least three years. The information contained in these retail dealer records fulfills the statutory requirement.

Current Actions: TTB is submitting this information collection for extension purposes only. The information collection, estimated number of respondents, and estimated total annual burden hours remain unchanged.

Type of Review: Extension of a currently approved collection.

Affected Public: Businesses or other for-profits; State, Local, and Tribal Governments.

Estimated Number of Respondents: 455,000.

Estimated Total Annual Burden Hours: 1 (one).

Title: Wholesale Liquor and Beer Dealer Applications, Letterheads, and Notices Relating to Operations (Variations in Format or Preparation of Records), TTB REC 5170/6.

OMB Number: 1513-0067.

TTB Recordkeeping Requirement Number: REC 5170/6.

Abstract: Under the authority of the Internal Revenue Code at 26 U.S.C. 5121, the TTB regulations in 27 CFR part 31 require wholesale dealers to keep records of the receipt and disposition of distilled spirits. As authorized at 27 CFR 31.159, wholesale dealers may submit letterhead applications to the appropriate TTB officer for approval of variations in the type and format of such records, and, as authorized at 27 CFR 31.172, for variations in the place of retention for those records. This information collection consists of the records related to such variance requests, including variance applications and notices of TTB approval of requested variances. TTB review of these variance applications is necessary in order to determine that the variance would not unduly hinder the effective administration of 27 CFR part 31, jeopardize the revenue, or be contrary to any provisions of law.

Current Actions: TTB is submitting this collection as a revision. The recordkeeping requirement remains unchanged. However, TTB is decreasing the estimated number of respondents and the resulting total annual burden hours associated with this information collection due to a decrease in the number of recordkeeping variance requests it receives from wholesale dealers.

Type of Review: Revision of a currently approved collection.

Affected Public: Businesses and other for-profits.

Estimated Number of Respondents: 100.

Estimated Total Annual Burden Hours: 50.

Title: Alternate Methods or Procedures and Emergency Variations from Requirements for Exports of Liquors (TTB REC 5170/7).

OMB Number: 1513-0082.

TTB Recordkeeping Requirement Number: REC 5170/7.

Abstract: Under the TTB regulations in 27 CFR part 28, exporters of alcohol may file letterhead applications requesting approval of alternate methods or procedures or emergency variations from the requirements of that part. TTB uses such applications to determine if the requested method, procedure, or emergency variation will protect the revenue and will not pose a burden to TTB in administering part 28, while allowing exporters the maximum operational flexibility.

Current Actions: TTB is submitting this collection as a revision. This recordkeeping requirement remains unchanged. However, TTB is decreasing the estimated number of respondents and the annual burden hours associated with this information collection due to a decrease in the number of exporters applying for alternate methods or procedures and emergency variances.

Type of Review: Revision of a currently approved collection.

Affected Public: Businesses or other for-profits.

Estimated Number of Respondents: 270.

Estimated Total Annual Burden Hours: 108.

Title: Notices Relating to Payment of Firearms and Ammunition Excise Tax.

OMB Number: 1513-0097.

TTB Form or Recordkeeping Number: None.

Abstract: Federal excise taxes are collected on the sale or use of firearms and ammunition by firearms or ammunition manufacturers, importers, and producers. Taxpayers who elect to pay these excise taxes by electronic fund transfer (EFT) must furnish a written notice to TTB when they elect to use or discontinue tax payment by EFT. TTB uses this information to anticipate and monitor taxpayer methods of payment and to ensure that taxes are remitted in the appropriate form, as chosen by the taxpayer.

Current Actions: TTB is submitting this information collection for extension purposes only. The information collection, estimated number of respondents, and estimated number of burden hours remain unchanged.

Type of Review: Extension of a currently approved collection.

Affected Public: Businesses or other for-profits.

Estimated Number of Respondents: 10.

Estimated Total Annual Burden Hours: 1 (one).

Title: Applications, Notices, and Permits Relative to Importation and Exportation of Distilled Spirits, Wine, and Beer, Including Puerto Rico and Virgin Islands.

OMB Number: 1513-0100.

TTB Form or Recordkeeping Number: None.

Abstract: Distilled spirits, industrial alcohol, beer and wine are taxed when imported into the United States, but the Federal excise taxes collected on these commodities brought into the United States from Puerto Rico and the U.S. Virgin Islands are largely returned to their respective governments. Exports are generally tax free. The documents required under this information collection ensure that the proper taxes are collected and returned according to law.

Current Actions: TTB is submitting this information collection for extension purposes only. The information collection, estimated number of respondents, and estimated total annual burden hours remain unchanged.

Type of Review: Extension of a currently approved collection.

Affected Public: Business or other for-profit.

Estimated Number of Respondents: 20.

Estimated Total Annual Burden Hours: 180.

Title: Information Collected in Support of Small Producers Wine Tax Credit, TTB REC 5120/11.

OMB Number: 1513-0104.

TTB Recordkeeping Requirement Number: REC 5120/11.

Abstract: Certain small wine producers are eligible for a tax credit which may be taken to reduce the Federal excise tax they pay on wines removed from their premises. In addition, small producers can transfer their tax credit to bonded warehouses, which store their wine and ship it on their instructions. Under TTB regulations, the transferee uses information provided by the small producer to take the appropriate credit on behalf of the small producer, and the producer will use the information to monitor its own tax payments to ensure it does not exceed the authorized annual credit. The information is used by taxpayers in preparing their returns and by TTB to verify tax computation.

Current Actions: TTB is submitting this information collection for extension purposes only. The information collection, estimated number of respondents, and estimated total annual burden hours remain unchanged.

Type of Review: Extension of a currently approved collection.

Affected Public: Business or other for-profit.

Estimated Number of Respondents: 280.

Estimated Total Annual Burden Hours: 2,800.

Dated: January 7, 2016.
Amy R. Greenberg,
Director, Regulations and Rulings Division.

[FR Doc. 2016-00484 Filed 1-12-16; 8:45 am]

BILLING CODE 4810-31-P